DEPARTMENT OF TRANSPORTATION

Federal Aviation Administration

14 CFR Part 39

[Docket No. FAA-2013-0984; Directorate Identifier 2013-SW-022-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter (Eurocopter) France Model EC225LP helicopters. This proposed AD would require measuring the operating load of the cockpit fuel shut-off controls and replacing the tangential gearbox if the operating load threshold is exceeded. This proposed AD is prompted by the jamming of the left-hand (LH) side of the fuel shut-off and general cut-off controls (controls). The proposed actions are intended to prevent the jamming of the controls so that a pilot can shut down an engine during an engine fire or during an emergency landing.

DATES: We must receive comments on this proposed AD by January 24, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: James Blyn, Aviation Safety Engineer, Regulations and Policy Group, Rotorcraft Directorate, FAA, 2601 Meacham Blvd., Fort Worth, Texas 76137; telephone (817) 222-5110; email james.blyn@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2013-0098-E, dated April 24, 2013, to correct an unsafe condition for Eurocopter Model EC225LP helicopters with tangential gearboxes, part number (P/N) 200181 or Eurocopter P/N 704A34112012. EASA advises that during maintenance on a helicopter, the LH side of the cockpit's emergency shutdown controls were reported jammed, making it impossible to operate the LH fuel shut-off and the general cut-out handles. “This condition, if not detected and corrected, could lead to failure to manually operate the helicopter emergency shutdown controls during emergency landing or fire condition,” EASA states. To address this unsafe condition, EASA AD No. 2013-0098-E requires an operating load check of the two cockpit fuel shut-off handles and, depending on findings, lubrication and/or replacement of the two tangential gearboxes.

FAA's Determination

These helicopters have been approved by the aviation authority of France and are approved for operation in the United States. Pursuant to our bilateral agreement with France, EASA, its technical representative, has notified us of the unsafe condition described in the EASA AD. We are proposing this AD because we evaluated all information provided by EASA and determined the unsafe condition exists and is likely to exist or develop on other helicopters of these same type designs.

Related Service Information

Eurocopter issued Emergency Alert Service Bulletin (ASB) No. 76A001, Revision 0, dated April 22, 2013, for the Model EC225LP civil helicopter and the Model EC725 military helicopter to notify its operators that during a scheduled inspection of the fuel shut-off controls, a mechanic noticed that one of the shut-off controls jammed. This jamming made maneuvering the fuel shut-off and the general cut-out controls impossible. After an investigation, Eurocopter determined that the jamming originated in the tangential gearbox installed on this control. Traces of corrosion were observed on the internal bearings of the LH tangential gearbox, Eurocopter reported. The jamming of the fuel cut-off control prevents the engine input fuel valve and the engine compartment ventilation flap from closing and prevents the activation of the general cut-out control.

Eurocopter consequently called for a mandatory “check” of the fuel shut-off valve maneuvering loads, lubricating the tangential gearbox bearings, and depending on the load measurement, replacing the tangential gearbox.

Proposed AD Requirements

This proposed AD would require:

• Within 15 hours time-in-service (TIS) or 7 days, whichever occurs first, measuring the operating load of each cockpit fuel shut-off control.

• If the operating load is more than 3 daN (6.74 ft-lb), before further flight, lubricating each tangential gearbox and measuring the operating load of each cockpit fuel shut-off control.

• If the operating load is less than or equal to 3 daN (6.74 ft-lb), within 6 months, lubricating the tangential gearbox.

• If the operating load is more than 3 daN (6.74 ft-lb) after lubricating the tangential gearbox, replacing the affected tangential gearbox before the next flight.

Differences Between This Proposed AD and the EASA AD

The EASA AD requires differing compliance times based on when the helicopter's original Certificate of Airworthiness or Export Certificate of Airworthiness was issued. This proposed AD makes no distinction regarding compliance times because there are only 4 affected aircraft on the U.S. registry.

Costs of Compliance

We estimate that this proposed AD would affect 4 helicopters of U.S. Registry and that labor costs would average $85 a work-hour. Based on these estimates, we expect the following costs:

• Measuring the operating load of the two cockpit fuel shut-off controls would require .25 work-hours for a labor cost of about $21, or $84 for the U.S. fleet. No parts would be needed.

• Lubricating the tangential gearbox would require 4 work-hours. The cost of consumable materials would be minimal for a total cost of $340 per helicopter.

• Replacing the tangential gearbox would require 4 work-hours for a labor cost of $340. Parts would cost $4,943 for a total cost of $5,283 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

EUROCOPTER FRANCE HELICOPTERS: Docket No. FAA-2013-0984; Directorate Identifier 2013-SW-022-AD.

(a) Applicability

This AD applies to Eurocopter France (Eurocopter) Model EC225LP helicopters with a tangential gearbox, part number (P/N) 200181 or 704A34112012, installed, certificated in any category.

(b) Unsafe Condition

This AD defines the unsafe condition as the jamming of the fuel shut-off and the general cut-off controls. This condition could prevent a pilot from shutting down an engine during an engine fire or emergency landing.

(c) Comments Due Date

We must receive comments by January 24, 2014.

(d) Compliance

You are responsible for performing each action required by this AD within the specified compliance time unless it has already been accomplished prior to that time.

(e) Required Actions

(1) Within 15 hours time-in-service (TIS) or 7 days, whichever occurs first, measure the operating load of each cockpit fuel shut-off control.

(i) If the operating load is more than 3 daN (6.74 ft-lb), before further flight, lubricate each tangential gearbox and measure the operating load of each cockpit fuel shut-off control.

(ii) If the operating load is less than or equal to 3 daN (6.74 ft-lb), within 6 months, lubricate each tangential gearbox and measure the operating load of each cockpit fuel shut-off control.

(iii) If the operating load is more than 3 daN (6.74 ft-lb) after lubricating the tangential gearbox, replace the affected tangential gearbox before the next flight.

(2) Before installing a tangential gearbox, P/N 200181 or 704A34112012, lubricate the upper and lower bearings.

(f) Alternative Methods of Compliance (AMOCs)

(1) The Manager, Safety Management Group, FAA, may approve AMOCs for this AD. Send your proposal to: James Blyn, Aviation Safety Engineer, Regulations and Policy Group, Rotorcraft Directorate, FAA, 2601 Meacham Blvd., Fort Worth, Texas 76137; telephone (817) 222-5110; email james.blyn@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Eurocopter Emergency Alert Service Bulletin No. 76A001, Revision 0, dated April 22, 2013, which is not incorporated by reference, contains additional information about the subject of this AD. For service information, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

(2) The subject of this AD is addressed in European Aviation Safety Agency (EASA) AD No. 2013-0098-E, dated April 24, 2013. You may view the EASA AD in the AD Docket on the Internet at http://www.regulations.gov.

(h) Subject

Joint Aircraft Service Component (JASC) Code: Engine Controls, 7600.

Issued in Fort Worth, Texas, on October 7, 2013.
Kim Smith,
Directorate Manager, Rotorcraft Directorate, Aircraft Certification Service.

[FR Doc. 2013-28188 Filed 11-22-13; 8:45 am]

BILLING CODE 4910-13-P